Proclamation 9879 of May 3, 2019

Missing and Murdered American Indians and Alaska Natives Awareness Day, 2019

By the President of the United States of America

A Proclamation

On Missing and Murdered American Indians and Alaska Natives Awareness Day, we draw attention to the horrible acts of violence committed against American Indian and Alaska Native people, particularly women and children. Too many American Indians and Alaska Natives are the victims of abuse, sexual exploitation, or murder—or are missing from their communities. Some of those missing may be victims of human trafficking. We must work together as a Nation to correct these injustices and ensure the safety of all Americans, particularly our most vulnerable populations.

American Indian and Alaska Native people face alarming levels of violence. Data from the National Institute of Justice and the Centers for Disease Control and Prevention indicate that more than 1.5 million American Indian and Alaska Native women have experienced violence, including sexual violence, in their lifetimes. American Indian and Alaska Native children attempt and commit suicide at rates far higher than those in any other demographic in our Nation, and often endure disproportionately high rates of endemic drug abuse, violence, and crime.

Ending the violence that disproportionately affects American Indian and Alaska Native communities is imperative. Under my Administration, Federal agencies are working more comprehensively and more collaboratively to address violent crime in Indian country, to recover the American Indian and Alaska Native women and children who have gone missing, and to find justice for those who have been murdered. As a result of these ongoing efforts, we are improving public safety, we are expanding funding and training opportunities for law enforcement in Indian country, and we are better equipping them with tools like access to criminal databases. We have also established improved protocols based on our government-to-government relationships with the tribes, and have become more transparent and accountable in our efforts.

Currently, every United States Attorney's Office with Indian country jurisdiction has developed sexual assault response and multidisciplinary teams to combat sexual assault and abuse of American Indian and Alaska Native women and children. In addition, the Attorney General has developed a working group dedicated to addressing violent crime in Indian country. This working group has made the development of law enforcement strategies for Missing and Murdered Indigenous People (MMIP) a priority, improving human trafficking training and creating law enforcement initiatives for United States Attorneys.

To help address the significant challenges in collecting data regarding missing and murdered American Indian and Alaska Native people, the Department of the Interior's Bureau of Indian Affairs (BIA) and the Department of Justice (DOJ) partnered together to capture tribal data through new data fields in the National Missing and Unidentified Persons System. DOJ has also expanded the Tribal Access Program (TAP) and Amber Alert in Indian country to make law enforcement more aware of missing persons and to enhance their ability to be responsive to missing persons reports and Sexual Offender Registration and Notification Act (SORNA) registrants in the area. TAP also enables tribal law enforcement to have access to national law enforcement databases and to immediately and directly enter missing persons reports into them. In addition, BIA's Tribal Justice Support Directorate funds the training of tribal attorneys in prosecuting domestic violence and partner abuse crimes as part of implementing the Violence Against Women Act.

In Fiscal Years 2018 and 2019, DOJ allocated historic amounts of funding to combat violent crime in Indian country, including to the MMIP efforts of the Office on Violence Against Women (OVW). DOJ set aside close to $300 million from the Crime Victim Fund over two years to assist victims of crime in Indian country. It also expanded the Tribal Special Assistant United States Attorney program, which is aimed at reducing violent crime, including violence against women, in Indian country and building important partnerships between Federal and tribal agencies. In addition, DOJ funds the National Indian Country Training Initiative (NICTI), which continues to provide training at the National Advocacy Center and in the field for Federal, State, and tribal criminal justice and social service professionals.

My Administration will continue working to root out injustice and protect each and every person in America. On Missing and Murdered American Indians and Alaska Natives Awareness Day, we pause to raise awareness of unacceptable acts of violence that profoundly harm American Indian and Alaska Native communities. As a Nation, we honor the lives of all missing and murdered American Indians and Alaska Natives, and we reaffirm our commitment to ensuring that violence against these vulnerable Americans shall not be overlooked or tolerated.

NOW, THEREFORE, I, DONALD J. TRUMP, President of the United States of America, by virtue of the authority vested in me by the Constitution and the laws of the United States, do hereby proclaim May 5, 2019, as Missing and Murdered American Indians and Alaska Natives Awareness Day. I call upon Americans and all Federal, State, tribal, and local governments to increase awareness of the crisis of missing and murdered American Indians and Alaska Natives through appropriate programs and activities.

IN WITNESS WHEREOF, I have hereunto set my hand this third day of May, in the year of our Lord two thousand nineteen, and of the Independence of the United States of America the two hundred and forty-third.

[FR Doc. 2019-09761

Filed 5-8-19; 11:15 am]

Billing code 3295-F9-P